DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The National Executive Training Institutes To Reduce the Use of Seclusion and Restraint—NEW

The Center for Mental Health Services within the Substance Abuse and Mental Health Services Administration proposes to survey the recipients of the training and technical assistance provided through the National Technical Assistance Center's (NTAC) National Executive Training Institutes (NETI). The NETI was established to assist states in the reduction and elimination of seclusion and restraint (S&R). Six Regional NETI training events took place in 2003 and 2005. A total of 47 states and staff of 80 facilities were involved in the trainings. A NETI Survey was developed to identify the impact of the training on the implementation of strategies for the reduction of seclusion and restraint and adoption of alternative practices.

The NETI Survey is broken into 9 sections: Section I collects general information about the facility (name and state) and the person completing the questionnaire (name, title, phone number, if participated in NETI training and what NETI training participated in); Section II collects information about the type of facility or program that received the NETI training; Section III collects information about the types of persons served by the facility or program; and Sections IV though IX collect information about the strategies taught in the NETI training (Leadership, S/R Prevention and Reduction Tools, Use of S/R Data and Statistics, Staffing/Workforce Development, Consumer/Stakeholder Involvement, Barriers and Facilitators and other comments), specifically what strategies or changes were implemented before the NETI training, which were implemented after the NETI training, and which have not been implemented.

Among the data to be collected through the NETI Survey is information about the strategies taught in the NETI training for reducing the use of seclusion and restraint and adopting alternative practices. The NETI training has been accepted as a promising and best practice for reducing the use of seclusion and restraint, and as being on the evidence-based practices ladder. Current efforts are underway to move the NETI training up the evidence-based ladder to an effective practice. The use of evidence-based practices is one of the domains in the SAMHSA National Outcome Measures (NOMs).

Respondents will have the option of completing a paper or on-line version of the survey. The estimated annual response burden to collect this information is as follows:

Number of facilities | Responses per facility | Burden/ response (hours) | Annual burden (hours)
80 | 1 | 1.50 | 120

Send comments to Summer King, SAMHSA Reports Clearance Officer, Room 7-1044, One Choke Cherry Road, Rockville, MD 20857. Written comments should be received within 60 days of this notice.

Dated: April 13, 2006.
Anna Marsh,
Director, Office of Program Services.

[FR Doc. E6-6056 Filed 4-21-06; 8:45 am]

BILLING CODE 4162-20-P